SMALL BUSINESS ADMINISTRATION

[Disaster Declaration #17054 and #17055; PENNSYLVANIA Disaster Number PA-00111]

Administrative Declaration Amendment of a Disaster for the Commonwealth of Pennsylvania

AGENCY: Small Business Administration.

ACTION: Amendment 1.

SUMMARY: This is an amendment of the Administrative declaration of a disaster for the Commonwealth of Pennsylvania dated 07/29/2021.

Incident: Flash Flooding.

Incident Period: 07/12/2021.

DATES: Issued on 09/22/2021.

Physical Loan Application Deadline Date: 10/27/2021.

Economic Injury (EIDL) Loan Application Deadline Date: 04/29/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the Administrator's disaster declaration for the Commonwealth of Pennsylvania, dated 07/29/2021, is hereby amended to extend the deadline for filing applications for physical damages as a result of this disaster to 10/27/2021.

All other information in the original declaration remains unchanged.

(Catalog of Federal Domestic Assistance Number 59008)

Isabella Guzman,
Administrator.

[FR Doc. 2021-21108 Filed 9-28-21; 8:45 am]

BILLING CODE 8026-03-P